DEPARTMENT OF HOUSING AND URBAN DEVELOPMENT

[Docket No. FR-5486-N-14]

Notice of Proposed Information Collection for Public Comment; Housing Choice Voucher Program Administrative Fee Study Pretest

AGENCY: Office of the Policy Development and Research, HUD.

ACTION: Notice.

SUMMARY: The proposed information collection requirement described below will be submitted to the Office of Management and Budget (OMB) for review, as required by the Paperwork Reduction Act. The Department is soliciting public comments on the subject proposal.

DATES: Comments Due Date: August 15, 2011.

ADDRESSES: Interested persons are invited to submit comments regarding this proposal. Comments should refer to the proposal by name and/or OMB Control number and should be sent to: Reports Liaison Officer, Office of Policy Development & Research, Department of Housing and Urban Development, 451 7th Street, SW., Room 8226, Washington, DC 20410-5000.

FOR FURTHER INFORMATION CONTACT: Marina L. Myhre, (202) 402-5705 for copies of the proposed forms and other available documents. (This is not a toll-free number.)

SUPPLEMENTARY INFORMATION: The Department will submit the proposed information collection to OMB for review, as required by the Paperwork Reduction Act of 1995 (44 U.S.C. chapter 35, as amended). This Notice is soliciting comments from members of the public and affected agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond, including through the use of appropriate automated collection techniques or other forms of information technology (e.g., permitting electronic submission of responses).

This Notice also lists the following information:

Title of Proposal: Housing Choice Voucher Program Administrative Fee Study Pretest.

Description of the Need for the Information and Proposed Use: This request is for the clearance of on-site data collection from public housing agencies (PHAs) to test the methodology for the Housing Choice Voucher (HCV) Program Administrative Fee study. The purpose of the study is to collect accurate information on the costs of administering the HCV program across a representative sample of high performing and efficient PHAs and to use this information to develop a new administrative fee allocation formula for the HCV program. The study is proceding in multiple phases. This request is for data collection to test the methodology for estimating program costs in the study. We propose to use two main methods for collecting cost data: (1) Measuring the time that front line staff spend working on the program and translating that time into costs using the salaries and benefits of the staff doing the work and adjusting for market factors; and (2) collecting information via interviews and document review on the overhead costs and other costs related to HCV program administration that cannot be captured by measuring staff time spent on the program. We will test these data collection approaches at between 5 and 10 PHAs across the country. The results of the pretest will be used to refine the methodology used for the full study of administrative fees with a larger sample of PHAs.

OMB Approval Number: Pending.

Agency Form Numbers: None.

Members of Affected Public: Up to 250 PHA staff persons across up to 10 PHAs.

Estimation of the Total Number of Hours Needed To Prepare the Information Collection Including Number of Respondents, Frequency of Response, and Hours of Response: We plan to conduct the pretest at 5 to 10 PHAs across the country. The pretest will involve a combination of on-site and telephone data collection from PHA staff through interviews, observation, and self-reporting of time spent working on the HCV program via timesheets and other methods. There are five data collection activities that involve PHA staff. First, at each pretest site, PHA staff will spend up to 32 hours assembling data for the study and being interviewed by the study team (32 hours × 10 sites = 320 hours). Second, at each site up to 15 staff will be observed in their work for up to four weeks (28 working days). These staff will engage with the researchers for approximately 15 minutes per day, for a total of 7 hours per staff over four weeks (7 hours × 15 staff × 10 sites = 1,050 hours). Third, at each site up to 15 staff will complete timesheets or respond to messages via a SmartPhone for a period of approximately two months (45 working days). These activities will take approximately 15 minutes per day, for a total of 11.25 hours per staff over the two-month period (11.25 hours × 15 staff × 10 sites = 1,688 hours). Fourth, all staff involved in time measurement activities will participate in up to 2 hours of training or preparation activities (2 hours × 30 staff × 10 sites = 600 hours). Fifth, an average of 10 PHA staff per site will spend approximately 60 minutes debriefing with the research team about their experiences with the pretest (1 hour × 10 staff × 10 sites = 100 hours). The total estimated burden across all proposed data collection activities is 3,758 hours.

Status of the Proposed Information Collection: Pending OMB approval.

Authority: U.S. Code 12, 1701z-1, Research and demonstrations.

Dated: June 9, 2011.
Raphael W. Bostic,
Assistant Secretary for Policy Development and Research.

[FR Doc. 2011-14906 Filed 6-15-11; 8:45 am]

BILLING CODE 4210-67-P